DEPARTMENT OF HEALTH AND HUMAN SERVICES

National Institutes of Health

Center for Scientific Review; Amended Notice of Meeting

Notice is hereby given of a change in the meeting of the Molecular Genetics B Study Section, October 02, 2013, 07:00 p.m. to October 03, 2013, 06:00 p.m., Handlery Union Square Hotel, 351 Geary Street, San Francisco, CA 94102 which was published in the Federal Register on September 03, 2013, 78 FR Pgs. 54259-54261.

The meeting will start on November 16, 2013 at 7:00 a.m. and end on November 16, 2013 at 5:00 p.m. The meeting location remains the same. The meeting is closed to the public.

Dated: October 23, 2013.
David Clary,
Program Analyst, Office of Federal Advisory Committee Policy.

[FR Doc. 2013-25485 Filed 10-28-13; 8:45 am]

BILLING CODE 4140-01-P